DEPARTMENT OF THE TREASURY

Bureau of the Fiscal Service

Waiver of Computer Matching Agreements for Do Not Pay

AGENCY: Bureau of the Fiscal Service, Treasury.

ACTION: Notice of Intent to Issue a Four-Year Waiver from the Requirements of Computer Matching Agreements for Do Not Pay.

SUMMARY: Under the Do Not Pay statute, the Secretary of the Treasury (Secretary) may waive statutory computer matching requirements, in consultation with the Director of the Office of Management and Budget (OMB), where legally permissible. OMB has issued guidance for agencies which outlines waiver eligibility criteria and specifies conditions agencies must meet to obtain the waiver. On September 3, 2025, the Secretary authorized the issuance of a four-year waivers for eligible agencies engaging in matching programs with the Do Not Pay Initiative.

DATES: The waiver discussed in this notice is effective from September 10, 2025 through September 10, 2029.

ADDRESSES: Comments or inquiries may be mailed to: Office of the Chief Data Officer, Bureau of the Fiscal Service, 3201 Pennsy Drive, Building E, Landover, MD 20785. Comments or inquiries may also be emailed to FPFIOutreach@fiscal.treasury.gov.

FOR FURTHER INFORMATION CONTACT: Justin Marsico, Fraud Prevention and Financial Integrity, (855) 837-4391; or Thomas Kearns, Senior Attorney, Office of the Chief Counsel, 304-480-8692.

SUPPLEMENTARY INFORMATION: The Privacy Act of 1974 (Privacy Act), 5 U.S.C. 552a, includes a series of requirements that apply when agencies engage in a matching program. One of the requirements for matching programs is for the participating agencies to enter into a matching agreement, which is a written agreement specifying important details about the matching program. This requirement helps to ensure that the matching program is conducted in a manner that ensures accountability, due process, information quality, data minimization, security, and transparency. Congress, however, recognized a need for flexibility in how agencies implement these safeguards for matching programs conducted under Do Not Pay. PIIA states that “[t]he head of the agency operating the [Do Not Pay] Working System may, in consultation with the Office of Management and Budget, waive the requirements of section 552a(o) of title 5 in any case or class of cases for computer matching activities conducted under this section.”

On March 25, 2025, President Trump signed Executive Order (E.O.) 14249, “Protecting America's Bank Account Against Fraud, Waste, and Abuse,” which directs the Secretary to reduce barriers to data access for preventing fraud and improper payments by exercising the authority in PIIA, 31 U.S.C. 3351 et seq., to waive the computer matching agreement requirements outlined in 5 U.S.C. 552a(o), in consultation with the OMB Director, in any case or class of cases for matching activities conducted under 31 U.S.C. 3354, where legally permissible. In support of this directive, OMB issued Memorandum M-25-32, “Preventing Improper Payments and Protecting Privacy through Do Not Pay,” which outlines criteria that matching programs must meet to be eligible for the waiver. On September 3, 2025, the Secretary authorized the issuance of a four-year waiver of the requirement for entering into a matching agreement under 5 U.S.C. 552a(o) for the class of matching programs that meet all of the criteria defined in OMB Memorandum M-25-32. In alignment with E.O. 14249, this action provides flexibility that assists agencies in fulfilling their obligations to determine payment or award eligibility through pre-certification and pre-award procedures.

The Treasury Department adheres to rigorous standards for data access and use in federal programs, including requirements for agreements that govern how data is shared and matched between agencies. Treasury preserves the safeguards under the Privacy Act through data sharing agreements that clearly define the terms, conditions, and safeguards of each exchange. Treasury also implements strong cybersecurity practices to protect data integrity and confidentiality and conducts significant vetting before onboarding any new data sources to ensure compliance with legal and ethical standards.

Gary Grippo,
Acting Fiscal Assistant Secretary.

[FR Doc. 2025-17382 Filed 9-9-25; 8:45 am]

BILLING CODE 4810-AS-P